NUCLEAR REGULATORY COMMISSION

Sunshine Act; Meetings

Agency: Nuclear Regulatory Commission.

Dates: Weeks of April 7, 14, 21, 28, May 5, 12, 2003.

Place: Commissioners' Conference Room, 11555 Rockville Pike, Rockville, Maryland.

Status: Public and Closed.

Matters to be Considered:

Week of April 7, 2003

Friday, April 11, 2003

9 a.m.—Meeting with Advisory Committee on Reactor Safeguards (ACRS), (Public Meeting) (Contact: John Larkins, 301-415-7360)

This meeting will be webcast live at the Web address— http://www.nrc.gov.

12:30 p.m.—Discussion of Management Issues (Closed—Ex. 2).

Week of April 14, 2003—Tentative

There are no meetings scheduled for the Week of April 14, 2003.

Week of April 21, 2003—Tentative

There are no meetings scheduled for the Week of April 21, 2003.

Week of April 28, 2003—Tentative

There are no meetings scheduled for the Week of April 28, 2003.

Week of May 5, 2003—Tentative

There are no meetings scheduled for the Week of May 5, 2003.

Week of May 12, 2003—Tentative

Thursday, May 15, 2003

9:30 a.m.—Briefing on Results of Agency Action Review Meeting (Public Meeting) (Contact: Robert Pascarelli, 301-415-1245)

This meeting will be webcast live at the Web address— http://www.nrc.gov.

The schedule for Commission meetings is subject to change on short notice. To verify the status of meetings call (recording) (301) 415-1292. Contact person for more information: David Louis Gamberoni (301) 415-1651.

Additional Information

“Discussion of Management Issues (Closed—Ex. 2),” originally scheduled for March 20, 2003, was postponed to April 11, 2003.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301) 415-1969). In addition, distribution of this meeting notice over the Internet system is available. If you are interested in receiving this Commission meeting schedule electronically, please send an electronic message to dkw@nrc.gov.

Dated: April 3, 2003.
David Louis Gamberoni,
Technical Coordinator, Office of the Secretary.

[FR Doc. 03-8625 Filed 4-4-03; 11:21 am]

BILLING CODE 7590-01-M